Title 3—

The President

Proclamation 7365 of October 14, 2000

National Character Counts Week, 2000

By the President of the United States of America

A Proclamation

The term “character” is derived from an ancient Greek word meaning “to inscribe,” reflecting the conviction that character is not innate, but rather is instilled through the influence, example, and guidance of the people around us. One of our greatest responsibilities as adults and citizens, therefore, is to ensure that we teach our children, by word and deed, the values that will help them develop into men and women of strong character.

This vital endeavor begins with the family and particularly with parents, who are their children's first teachers. The process continues in our schools—not only in the classroom, but also in the hallways, in the cafeteria, and on the playing field. We have many opportunities to instill in our children the elements of good character—citizenship, fairness, compassion, honesty, tolerance, and responsibility—and it is up to every citizen and organization to make the most of these opportunities.

My Administration has strived to assist parents, caregivers, teachers, and religious and community leaders in this vital effort. We have worked with the entertainment industry to increase educational programming on television and to create a voluntary ratings system to help parents reinforce the values they want to impart to their children. And 4 years ago, I was proud to sign legislation that requires new televisions sold in our country to include the V-chip, a device that allows parents to control the programs that their children watch on television. Recognizing the significant amount of time our children spend in school, we have also created partnerships with States under the Elementary and Secondary Education Act to assist school districts in developing curriculum materials, providing teacher training, and integrating character education into the curriculum. We have funded innovative after-school programs to offer young people mentors and role models to inspire them and to engage them in productive activities at the end of the school day.

We have also promoted citizen service—one of the greatest character-building tools available to our society. Through initiatives such as America Reads, the Corporation for National and Community Service, the National Senior Service Corps, the Peace Corps, and AmeriCorps, Americans of every age, background, gender, and race are experiencing the rewards of helping others, and in the process becoming more responsible citizens. We can also teach young Americans a vital lesson about character by exercising our right to vote and participating in the democratic process—a process that Americans of notable character established more than two centuries ago.

NOW, THEREFORE, I, WILLIAM J. CLINTON, President of the United States of America, by virtue of the authority vested in me by the Constitution and laws of the United States, do hereby proclaim October 15 through October 21, 2000, as National Character Counts Week. I call upon the people of the United States, government officials, educators, religious, community, and business leaders to commemorate this week with appropriate ceremonies, activities, and programs.

IN WITNESS WHEREOF, I have hereunto set my hand this fourteenth day of October, in the year of our Lord two thousand, and of the Independence of the United States of America the two hundred and twenty-fifth.

wj

[FR Doc. 00-27111

Filed 10-18-00; 8:45 am]

Billing code 3195-01-P